DEPARTMENT OF TRANSPORTATION

Federal Aviation Administration

14 CFR Part 39

[Docket No. FAA-2005-20352; Directorate Identifier 2004-NM-214-AD]

RIN 2120-AA64

Airworthiness Directives; Boeing Model 757-200 and -300 Series Airplanes and Model 767 Series Airplanes

AGENCY: Federal Aviation Administration (FAA), Department of Transportation (DOT).

ACTION: Notice of proposed rulemaking (NPRM).

SUMMARY: The FAA proposes to adopt a new airworthiness directive (AD) for certain Boeing Model 757-200 and -300 series airplanes and Model 767 series airplanes. This proposed AD would require replacing the existing operational software of the Pegasus flight management computer (FMC) system with new, improved operational software. This proposed AD is prompted by reports of “old” or expired air traffic control (ATC) clearance messages being displayed on the control display unit (CDU) of the FMC system during subsequent flights. We are proposing this AD to prevent display of “old” or expired clearance messages on the CDU of subsequent flights, which could result in the airplane entering unauthorized airspace or following a flight path that does not provide minimum separation requirements between aircraft, and a consequent near miss or a mid-air collision.

DATES: We must receive comments on this proposed AD by April 1, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, PO Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2005-20352; the directorate identifier for this docket is 2004-NM-214-AD.

FOR FURTHER INFORMATION CONTACT: Samuel Slentz, Aerospace Engineer, Systems and Equipment Branch, ANM-130S, FAA, Seattle Aircraft Certification Office, 1601 Lind Avenue, SW., Renton, Washington 98055-4056; telephone (425) 917-6483; fax (425) 917-6590.

SUPPLEMENTARY INFORMATION:

Comments Invited

We invite you to submit any relevant written data, views, or arguments regarding this proposed AD. Send your comments to an address listed under ADDRESSES. Include “Docket No. FAA-2005-20352; Directorate Identifier 2004-NM-214-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received several reports indicating that, on a Boeing Model 767-400ER airplane, air traffic control (ATC) clearance messages that had been uplinked to the flight management computer (FMC) during a previous flight were displayed on the control display unit (CDU) for the subsequent flight that used the ATC datalink function. The “old” or expired clearance messages had not been cleared on completion of the previous flight. This condition, if not corrected, could cause “old” or expired clearance messages on subsequent flights to be displayed on the CDU, which could result in the airplane entering unauthorized airspace or following a flight path that does not provide minimum separation requirements between aircraft, and a consequent near miss or a mid-air collision.

Similar Airplane Models

The FMC on certain Boeing Model 757 series airplanes are identical to those on the affected Model 767 series airplanes. Therefore, all of these models may be subject to the same unsafe condition.

Relevant Service Information

We have reviewed the alert service bulletins for the airplane models listed in the following table.

Relevant Service Information
Boeing airplane model | Boeing alert service bulletin | Dated (2004)
757-200 series airplanes | 757-34A0258 | February 12.
757-300 series airplanes | 757-34A0259 | February 12.
767-200, -300, and -300F series airplanes | 767-34A0389, Revision 2 | December 16.
767-400ER series airplanes | 767-34A0390 | February 19.

These alert service bulletins describe procedures for replacing the existing operational program software (OPS) and flight information and data output (FIDO) software of the FMC with Pegasus 2003 OPS and FIDO software. Installing the Pegasus 2003 OPS and FIDO software will ensure that the uplinked messages are cleared upon completion of a flight. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously.

Costs of Compliance

There are about 857 airplanes of the affected design in the worldwide fleet. This proposed AD would affect about 547 airplanes of U.S. registry. The proposed actions would take about 3 work hours per airplane, at an average labor rate of $65 per work hour. The manufacturer would provide required parts to the operators at no cost. Based on these figures, the estimated cost of the proposed AD for U.S. operators is $106,665, or $195 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2005-20352; Directorate Identifier 2004-NM-214-AD.

Comments Due Date

(a) The Federal Aviation Administration (FAA) must receive comments on this AD action by April 1, 2005.

Affected ADs

(b) None.

Applicability

(c) This AD applies to Boeing Model 757-200 and -300 series airplanes and Model 767-200, -300, -300F, and -400ER series airplanes; certificated in any category; equipped with a Pegasus flight management computer (FMC) system.

Unsafe Condition

(d) This AD was prompted by reports of “old” or expired air traffic control (ATC) clearance messages being displayed on the control display unit (CDU) of the FMC system during subsequent flights. We are issuing this AD to prevent the airplane entering unauthorized airspace or following a flight path that does not provide minimum separation requirements between aircraft, and a consequent near miss or mid-air collision.

Compliance

(e) You are responsible for having the actions required by this AD performed within the compliance times specified, unless the actions have already been done.

Replacing the Operational Program Software (OPS) and Flight Information and Data Output (FIDO) Software

(f) Within 18 months after the effective date of this AD, replace the OPS and FIDO software of the existing FMC with Pegasus 2003 OPS and FIDO software, in accordance with the applicable service bulletin specified in Table 1 of this AD.

Table 1.—Applicable Service Bulletin
Boeing airplane model | Boeing alert service bulletin | Dated (2004)
757-200 series airplanes | 757-34A0258 | February 12.
757-300 series airplanes | 757-34A0259 | February 12.
767-200, -300, and -300F series airplanes | 767-34A0389, Revision 2 | December 16.
767-400ER series airplanes | 767-34A0390 | February 19.

Acceptable for Compliance

(g) Accomplishment of Boeing Alert Service Bulletin 767-34A0389, dated February 19, 2004; or Revision 1, dated September 16, 2004, before the effective date of this AD, is an acceptable method of compliance with the requirements of this AD.

Alternative Methods of Compliance (AMOCs)

(h) The Manager, Seattle Aircraft Certification Office (ACO), FAA, has the authority to approve AMOCs for this AD, if requested in accordance with the procedures found in 14 CFR 39.19.

Issued in Renton, Washington, on February 6, 2005.
Ali Bahrami,
Manager, Transport Airplane Directorate, Aircraft Certification Service.

[FR Doc. 05-2840 Filed 2-14-05; 8:45 am]

BILLING CODE 4910-13-P